DEPARTMENT OF THE INTERIOR

Fish and Wildlife Service

[FWS-R2-ES-2021-0135; FXES11130200000-212-FF02ENEH00]

Endangered and Threatened Wildlife and Plants; Draft Recovery Plan for Canelo Hills Ladies-Tresses

AGENCY: Fish and Wildlife Service, Interior.

ACTION: Notice of availability; request for comment.

SUMMARY: We, the U.S. Fish and Wildlife Service, announce the availability of our draft recovery plan for Canelo Hills ladies-tresses (Spiranthes delitescens), an endangered orchid that occurs in desert wetland habitats in southern Arizona. We request review and comment on this draft recovery plan from local, State, and Federal agencies; Tribal governments; nongovernmental organizations; and the public.

DATES: We must receive any comments on or before February 14, 2022. Comments submitted online at http://www.regulations.gov (see ADDRESSES) must be received by 11:59 p.m. Eastern Time on February 14, 2022.

ADDRESSES:

Obtaining Documents: You may obtain a copy of the draft recovery plan, recovery implementation strategy, and species status assessment for review at http://www.regulations.gov in Docket No. FWS-R2-ES-2021-0135.

Submitting Comments: Submit your comments in writing by one of the following methods:

• Internet: http://www.regulations.gov. Search for and submit comments on Docket No. FWS-R2-ES-2021-0135.

• U.S. mail: Public Comments Processing, Attn: Docket No. FWS-R2-ES-2021-0135, U.S. Fish and Wildlife Service Headquarters, MS: PRB/3W, 5275 Leesburg Pike, Falls Church, VA 22041-3803.

For additional information about submitting comments, see Request for Public Comments and Public Availability of Comments under SUPPLEMENTARY INFORMATION.

FOR FURTHER INFORMATION CONTACT: Jeff Humphrey, Field Supervisor, at 928-556-2157 or by email at Jeff_Humphrey@fws.gov. Individuals who are hearing or speech impaired may call the Federal Relay Service at 1-800-877-8339 for TTY assistance.

SUPPLEMENTARY INFORMATION: We, the U.S. Fish and Wildlife Service (USFWS), announce the availability of our draft recovery plan for Canelo Hills ladies-tresses (Spiranthes delitescens), which we listed as endangered in 1997 (62 FR 665) under the Endangered Species Act of 1973, as amended (ESA; 16 U.S.C. 1531 et seq.). This orchid species is restricted to four populations in ciénegas (desert wetlands) in Cochise and Santa Cruz Counties in southern Arizona. The draft recovery plan includes specific goals, objectives, and criteria that may help to inform our consideration of whether to reclassify the species as threatened (i.e., “downlist”) or remove the species from the Federal List of Endangered and Threatened Plants (i.e., “delist”). We request review of and comment on the draft recovery plan from local, State, and Federal agencies; Tribal governments; nongovernmental organizations; and the public.

Recovery Planning and Implementation

Section 4(f) of the ESA requires the development of recovery plans for listed species, unless such a plan would not promote the conservation of a particular species. Also pursuant to section 4(f) of the ESA, a recovery plan must, to the maximum extent practicable, include:

(1) A description of site-specific management actions as may be necessary to achieve the plan's goals for the conservation and survival of the species;

(2) Objective, measurable criteria that, when met, would support a determination under the ESA's section 4(a)(1) that the species should be delisted; and

(3) Estimates of the time and costs required to carry out those measures needed to achieve the plan's goal and to achieve intermediate steps toward that goal.

In 2016 the USFWS revised its approach to recovery planning, and is now using a process termed recovery planning and implementation (RPI) (see https://www.fws.gov/endangered/esa-library/pdf/RPI.pdf). The RPI approach is intended to reduce the time needed to develop and implement recovery plans, increase recovery plan relevance over a longer timeframe, and add flexibility to recovery plans so they can be adjusted to new information or circumstances. Under RPI, a recovery plan addresses the statutorily required elements under section 4(f) of the ESA, including site-specific management actions, objective and measurable recovery criteria, and the estimated time and cost to recovery. The RPI recovery plan is supported by two supplementary documents: A species status assessment (SSA), which describes the best available scientific information related to the biological needs of the species and assessment of threats, and the recovery implementation strategy (RIS), which details the particular near-term activities needed to implement the recovery actions identified in the recovery plan. Under this approach, we can more nimbly incorporate new information on species biology or details of recovery implementation by updating these supplementary documents without concurrent revision of the entire recovery plan, unless changes to statutorily required elements are necessary.

Species Background

On January 6, 1997, we published a final rule (62 FR 665) to list Canelo Hills ladies-tresses as endangered without critical habitat.

The species is known to occur in four populations in southern Arizona: (1) Canelo Hills, with one subpopulation on land owned and managed by The Nature Conservancy and another on U.S. Forest Service land; the most recent observation of the species here included 5 individuals counted in 2002; (2) Turkey Creek, on private lands, where 6 individuals were counted in 2021; (3) San Rafael Valley, on private lands, where 80 plants were counted in 2021; and (4) Babocomari, on private lands, where the species was last observed in 2008.

There are no plants at botanical gardens; however, in 2016 seed from a single population was preserved, and in late 2020 a proposal was funded to begin in vitro propagation and cultivation at the Desert Botanical Garden in Phoenix, Arizona.

The primary ongoing threats to Canelo Hills ladies-tresses include loss or reduction of ciénega (desert wetland) habitat, herbivory or seed predation by vertebrates and invertebrates, pollinator decline, low numbers and limited distribution, and drought and climate change.

Recovery Criteria

The draft recovery criteria are summarized below. For a complete description of the rationale behind the criteria, the recovery strategy, management actions, and estimated time and costs associated with recovery, refer to the draft recovery plan for Canelo Hills ladies-tresses (see ADDRESSES, above, for document availability).

The ultimate recovery goal is to delist Canelo Hills ladies-tresses by ensuring the long-term viability of the species in the wild. In the recovery plan, we define the following criteria for delisting (i.e., removal of the species from the List of Endangered and Threatened Plants).

Delisting Criteria

Criterion 1: All four existing populations (Canelo Hills, Turkey Creek, San Rafael Valley, and Babocomari) are viable, and at least three new viable populations are established in strategic sites. To be considered viable, all seven populations must contain a minimum of 100 individuals each, for a total of 25 years over a 35-year period, as indicated by annual monitoring, including during the last two monitoring events. At least three of these populations must contain a minimum of two subpopulations separated by less than 960 meters (the distance a primary pollinator can travel). In addition, two of the seven populations must each contain a minimum of 650 individuals on at least two occasions during the 35-year period mentioned above. Existing or newly established populations may be augmented for 5 out of the first 25 years to achieve these numbers; no augmentation can occur in the last 10 years of the 35-year period. All populations must have documented natural recruitment and not show more than 10 percent loss of seed production to herbivory or predation during two or more monitoring events within the last 10 years of the 35-year period.

Criterion 2: A collection of seed representing the geographical, morphological, and genetic diversity of Canelo Hills ladies-tresses is maintained in multiple Center for Plant Conservation partner botanical or seed storage institutions for conservation purposes.

Criterion 3: A living collection of plants representing the geographical, morphological, and genetic diversity of Canelo Hills ladies-tresses is established within 10 years and maintained in perpetuity in multiple botanical institutions for educational and conservation purposes.

Criterion 4: Ciénegas supporting the four populations of Canelo Hills ladies-tresses (Canelo Hills, Turkey Creek, San Rafael Valley, and Babocomari), plus those ciénegas supporting at least three newly established populations, are protected in perpetuity through a conservation easement, habitat conservation plan, or other conservation mechanism appropriate to the land status. In addition, conservation easements or other conservation mechanisms appropriate to the land status are held on neighboring lands, such that new developments (e.g., residential, agricultural, and commercial) are minimized and do not impact groundwater availability in the ciénegas supporting Canelo Hills ladies-tresses populations.

Criterion 5: In fulfillment of Criterion 4, above, conservation and management programs and plans address the threats of ciénega habitat loss, direct loss of Canelo Hills ladies-tresses, and pollinator decline to ensure continued existence of the species. The following requirements must be met: (a) Site-specific plans are developed and fully implemented, such that competing native and nonnative vegetation is reduced to a level that ensures Canelo Hills ladies-tresses is not shaded and their vigor is not negatively affected; a more natural fire or other disturbance regime is maintained; natural spring flow supporting cienegas is increased by reducing water loss and increasing water conservation and recharge; moist soil ciénega habitat is increased; predation and herbivory are minimized; and native plant diversity is maintained, thus promoting native pollinators; and (b) data on the conservation and management of Canelo Hills ladies-tresses are collected and shared between land managers and researchers.

Peer Review

In accordance with our policy, “Notice of Interagency Cooperative Policy for Peer Review in Endangered Species Act Activities,” which we published on July 1, 1994 (59 FR 34270), and our August 22, 2016, Memorandum, “Peer Review Process,” we have sought the expert opinion of at least three appropriate and independent specialists regarding scientific data and interpretations contained in the species biological report and the draft recovery plan. We have ensured that the opinions of peer reviewers were objective and unbiased by following the guidelines set forth in the 2016 Memorandum, which updates and clarifies our policy on peer review. The purpose of such review was to ensure that our decisions are based on scientifically sound data, assumptions, and analysis. We have addressed peer review comments and incorporated changes in the publicly available version of the SSA and this version of the draft recovery plan.

Request for Public Comments

Section 4(f) of the ESA requires us to provide public notice and an opportunity for public review and comment during recovery plan development. Substantive comments may or may not result in changes to the recovery plan. Comments regarding recovery plan implementation will be forwarded as appropriate to Federal or other entities so that they can be taken into account during the course of implementation of recovery actions.

We invite written comments on this draft recovery plan. In particular, we are interested in additional information regarding the current threats to the species, ongoing beneficial management efforts, and the costs associated with implementing the recommended recovery actions. We are specifically seeking comments on the following questions:

• Understanding that the time and cost presented in the draft recovery plan will be fine-tuned as the RIS is implemented, are the estimated time and cost to recovery presented here realistic? Is the estimate reflective of the time and cost of actions that may have already been implemented by Federal, State, county, or other agencies? If not, please provide suggestions or methods for determining a more accurate estimation.

• Do the draft recovery criteria provide clear direction to partners on what is needed to recover Canelo Hills ladies-tresses? How could they be improved for clarity?

• Are the draft recovery criteria both objective and measurable given the information available for Canelo Hills ladies-tresses? Please provide suggestions.

• Understanding that specific, detailed, and area-specific recovery activities have been developed in the RIS, do the draft recovery actions presented in the draft recovery plan generally cover the types of actions necessary to meet the recovery criteria? If not, what general actions are missing? Are any of the draft recovery actions unnecessary for achieving recovery? Have we prioritized the actions appropriately?

The SSA is available as a supporting document for the draft recovery plan, but we are not seeking comments on that document. We will consider all comments we receive by the date specified in DATES, above, prior to final approval of the plan.

Public Availability of Comments

All comments we receive, including names and addresses, will become part of the administrative record and will be available to the public. Before including your address, phone number, email address, or other personal identifying information in your comment, you should be aware that your entire comment—including your personal identifying information—will be publicly available. While you may request in your comment that we withhold your personal identifying information from public review, we cannot guarantee that we will be able to do so.

Authority

We developed our draft recovery plan and publish this notice under the authority of section 4(f) of the Endangered Species Act of 1973, as amended (16 U.S.C. 1531 et seq.).

Amy Lueders,
Regional Director, Southwest Region, U.S. Fish and Wildlife Service.

[FR Doc. 2021-27013 Filed 12-13-21; 8:45 am]

BILLING CODE 4333-15-P